DEPARTMENT OF LABOR

Office of the Secretary

Submission for OMB Review: Comment Request

September 1, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—VETS, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistance Secretary for Administration and Management.

Type of Review: Extension without change of an existing OMB Control Number.

Title of Collection: Customer Satisfaction Surveys and Conference Evaluations Generic Clearance.

OMB Control Number: 1225-0059.

Affected Public: Individuals.

Total Estimated Number of Respondents: 200,000.

Total Estimated Annual Burden Hours: 20,000.

Total Estimated Annual Costs Burden (does not include hourly wage costs): $0.

Description: The Department is requesting OMB approval for the continued use of a generic clearance process for customer satisfaction and conference evaluation surveys. Customer satisfaction and conference evaluation surveys provide important information on customer attitudes about the delivery and quality of agency products and services and will be used as part of an ongoing process to improve DOL products and products. For additional information, see related notice published at Volume 74 FR 26426 on June 2, 2009.

Agency: Office of the Assistance Secretary for Administration and Management.

Type of Review: Extension without change of an existing OMB Control Number.

Title of Collection: Generic Solicitation for Grant Applications.

OMB Control Number: 1225-0086.

Affected Public: Private Sector.

Total Estimated Number of Respondents: 5,750.

Total Estimated Annual Burden Hours: 115,000.

Total Estimated Annual Costs Burden (does not include hourly wage costs): $0.

Description: The Department is requesting OMB approval for the continued use of a generic Solicitation for Grant Application (SGA) format for information collection requirements for SGAs that extend beyond what is collected on currently approved standard forms. OMB approval of this generic SGA form will assist the Department to carry out its responsibilities under the Paperwork Reduction Act by accurately accounting for the public burden associated with grant applications through the promotion of a common structure for reporting the information collection requirements contained in DOL's SGAs. For additional information, see related notice published at Volume 74 FR 26425 on June 2, 2009.

Darrin A. King,
Departmental Clearance Officer.

[FR Doc. E9-21496 Filed 9-4-09; 8:45 am]

BILLING CODE 4510-23-P